DEPARTMENT OF COMMERCE

Foreign-Trade Zones Board

[B-41-2016]

Foreign-Trade Zone 249—Pensacola, Florida, Notification of Proposed Production Activity, GE Renewables North America, LLC, Subzone 249A, (Wind Turbine Nacelles, Blades and Hubs), Pensacola, Florida

GE Renewables North America, LLC (GE Renewables) (formerly, GE Generators (Pensacola), L.L.C.), operator of Subzone 249A, submitted a notification of proposed production activity to the FTZ Board, for its facility located in Pensacola, Florida. The notification conforming to the requirements of the regulations of the FTZ Board (15 CFR 400.22) was received on May 23, 2016.

GE Renewables already has authority to produce wind turbines and related blades, hubs and nacelles within Subzone 249A. The current request would add foreign-status components to the scope of authority. Pursuant to 15 CFR 400.14(b), FTZ activity would be limited to the specific foreign-status components and specific finished products described in the submitted notification (as described below) and subsequently authorized by the FTZ Board.

Production under FTZ procedures could exempt GE Renewables from customs duty payments on the foreign status components used in export production. On its domestic sales, GE Renewables would be able to choose the duty rates during customs entry procedures that apply to wind turbines and related blades, hubs and nacelles (duty free or 2.5%) for the foreign-status inputs noted below and in the existing scope of authority. Customs duties also could possibly be deferred or reduced on foreign status production equipment.

The components sourced from abroad include: Blade root spacers; pitch transformers; brake calipers; brake hydraulic power units; elastomeric generator mounts; labyrinth rings; sonic wind sensors; upwind covers; and, vibration monitors (duty rate ranges from free to 4.5%).

Public comment is invited from interested parties. Submissions shall be addressed to the FTZ Board's Executive Secretary at the address below. The closing period for their receipt is July 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: June 10, 2016.
Elizabeth Whiteman,
Acting Executive Secretary.

[FR Doc. 2016-14318 Filed 6-16-16; 8:45 am]

BILLING CODE 3510-DS-P